DEPARTMENT OF HOMELAND SECURITY

Office of the Secretary

6 CFR Part 31

[Docket No. DHS-2008-0076]

RIN 1601-AA52

Ammonium Nitrate Security Program

AGENCY: National Protection and Programs Directorate, DHS.

ACTION: Notice of public meetings.

SUMMARY: The Department of Homeland Security's (DHS) National Protection and Programs Directorate (NPPD) is announcing an additional public meeting to consult with the public on a notice of proposed rulemaking (NPRM), entitled “Ammonium Nitrate Security Program,” which was published in the Federal Register on August 3, 2011. The Department previously announced a series of public meetings on the same topic on October 2, 2011 (see 76 FR 62311). Under the proposed Ammonium Nitrate Security Program, the DHS will regulate the sale and transfer of ammonium nitrate pursuant to section 563 of the Fiscal Year 2008 Department of Homeland Security Appropriations Act with the purpose of preventing the use of ammonium nitrate in an act of terrorism. The Department seeks public input on the proposed rule, particularly input regarding the questions and issues raised in the NPRM and raised in this notice.

Date, Time, and Location: An additional public meeting is scheduled to be held at the following location: St. Petersburg, Florida, Thursday, November 17, 2011, 10 a.m.-2 p.m., Hilton St. Petersburg Carillon Park, 950 Lake Carillon Drive, St. Petersburg, FL 33716.

DHS may announce changes to the current schedule or additional public meeting dates, times, and locations in a subsequent notice or notices to be published in the Federal Register.

FOR FURTHER INFORMATION CONTACT: Ammonium Nitrate Security Program Manager, U.S. Department of Homeland Security, National Protection and Programs Directorate, Infrastructure Security Compliance Division, 245 Murray Lane, SW., Mail Stop 0610, Arlington, VA 20598-0610, telephone number (703) 235-5263. For additional information on public meeting facilities, information on access to those facilities for individuals with disabilities, or to request special assistance at public meetings, please contact the Ammonium Nitrate Security Program Manager at (703) 235-5263.

SUPPLEMENTARY INFORMATION:

Background

Section 563 of the Fiscal Year 2008 Department of Homeland Security Appropriations Act amends the Homeland Security Act of 2002 and directs DHS to “regulate the sale and transfer of ammonium nitrate by an ammonium nitrate facility to prevent the misappropriation or use of ammonium nitrate in an act of terrorism.” See Public Law 110-161, Division E (2007). That statute also directs DHS to consult with appropriate private sector entities, state governments, heads of other Federal departments and agencies, and other appropriate stakeholders in developing and implementing ammonium nitrate regulations. See id., 6 U.S.C. 488a(b); 488a(g); and 488a(i)(4)(B). The Department published an advance notice of proposed rulemaking on October 29, 2008, seeking public comment on a Secure Handling of Ammonium Nitrate Program, which was followed by the notice of proposed rulemaking for the Ammonium Nitrate Security Program published for public comment on August 3, 2011. See 73 FR 64280 (advance notice of proposed rulemaking); 76 FR 46908 (notice of proposed rulemaking).

Purpose

DHS/NPPD will hold an additional public meeting to consult with the public and with other interested parties on the NPRM for the Ammonium Nitrate Security Program. The agenda for the public meeting will consist of a presentation by the Department on the elements of the NPRM, followed by comments from the attending public concerning the proposed rulemaking.

Public Meeting Procedures and Participation

For those members of the public that cannot attend the scheduled public meetings, a copy of the Department's presentation provided at the public meetings is available on the Department's Ammonium Nitrate Security Program Web site, at http://www.dhs.gov/files/programs/ammonium-nitrate-security-program.shtm.

This additional public meeting is open to the public and is expected to last up to a total of four hours. Please note that the public meeting may adjourn early if all commenters present have had the opportunity to speak prior to the scheduled conclusion of the meeting. DHS will use a sign-in sheet to voluntarily collect contact information from the attending public and to properly log oral comments received during the meeting. Providing contact information will be voluntary, and members of the public may also make anonymous oral comments. Seating may be limited, but session organizers will make every effort to suitably accommodate all participants. In order to allow as many members of the public as possible to speak, each speaker must limit his/her remarks to three minutes.

A transcript of this additional public meeting, and transcripts of the public meetings previously announced in the Federal Register, will be provided in the electronic docket for the Ammonium Nitrate Security Program rulemaking, docket number DHS-2008-0076, available at http://www.regulations.gov. Written comments on the proposed Ammonium Nitrate Security Program may also be submitted to DHS. As specified in the NPRM, you may submit comments, identified by docket number DHS-2008-0076, by one of the following methods:

• Federal eRulemaking Portal: Follow the instructions at http://www.regulations.gov for submitting comments.

• Mail: U.S. Department of Homeland Security, National Protection and Programs Directorate, Infrastructure Security Compliance Division, 245 Murray Lane, SW., Mail Stop 0610, Arlington, VA 20598-0610.

To avoid duplication, please use only one of these methods to submit written comments.

Key Comments Solicited by the Department

The Department is soliciting comments on all aspects of the NPRM. Of particular interest are comments addressing the following major issues:

Ammonium Nitrate Use and Characteristics

1. The types, quantities, and concentrations of ammonium nitrate and ammonium nitrate mixtures produced, used, sold, and transferred in the United States.

2. The detonability of ammonium nitrate and ammonium nitrate mixtures of different quantities and concentrations.

Registration

1. The level of access to the Internet that potential registration applicants currently have and/or the level of access potential applicants anticipate having in the future.

2. How potential registration applicants who do not have readily-accessible Internet access could obtain the access necessary to register online.

3. How to best notify ammonium nitrate agents (AN Agents) when ammonium nitrate purchasers (AN Purchasers) submit those AN Agents' names to the Department prior to sale or transfer of ammonium nitrate.

4. The efficiency and sufficiency of notifying applicants of registration number (AN Registered User Number) approvals and denials via email or other electronic means.

5. The proposed regulatory coverage of truck drivers and other ammonium nitrate transporters.

Verification

1. The proposed requirement that certain forms of identification should be acceptable for purposes of a visual identity verification check.

2. The advisability, costs, and benefits of enabling AN Agents to provide AN Purchasers' identity verification information directly to ammonium nitrate sellers (AN Sellers) when it is not possible for an AN Seller to verify the identity of the AN Purchaser in person.

3. Possible alternative methods that could be employed to verify AN Purchasers' identities in sales or transfers involving AN Agents.

Recordkeeping

1. The benefits and costs of maintaining records regarding the AN Purchaser (and, where applicable, AN Agent) verification process.

2. How ammonium nitrate facility (AN Facility) personnel should notify AN Purchasers and AN Agents that the information they provide may be shared with the Department.

Dated: November 4, 2011.
Penny Anderson,
Director, Infrastructure Security Compliance Division, Department of Homeland Security.

[FR Doc. 2011-29339 Filed 11-10-11; 8:45 am]

BILLING CODE 9110-9P-P